POSTAL REGULATORY COMMISSION

[Docket No. CP2022-58; Order No. 6165]

Competitive Postal Products

AGENCY: Postal Regulatory Commission.

ACTION: Notice.

SUMMARY: The Commission is recognizing a recent filing by the Postal Service of specific rates for its Inbound Letter Post Small Packets and Bulky Letters product effective January 1, 2023. This notice informs the public of the filing, invites public comment, and takes other administrative steps.

DATES: Comments are due: May 13, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Administrative Actions

IV. Ordering Paragraphs

I. Introduction

On April 29, 2022, the Postal Service filed a notice of rates not of general applicability for Inbound Letter Post Small Packets and Bulky Letters (Inbound E-format Letter Post) effective January 1, 2023.¹ The Postal Service requests that the Commission favorably review the proposed prices so that the Postal Service may submit the prices to the Universal Postal Union (UPU) before the June 1, 2022 deadline. Notice at 5.

¹ Notice of the United States Postal Service of Rates Not of General Applicability for Inbound E-Format Letter Post, and Application for Non-Public Treatment, April 29, 2022, at 1 (Notice).

II. Contents of Filing

In its Notice, the Postal Service proposes new prices for the Inbound Letter Post Small Packets and Bulky Letters product. Id. at 2. Under the UPU, by June 1, 2022, the Postal Service may submit self-declared rates for Inbound Letter Post Small Packets and Bulky Letters that would take effect on January 1, 2023.² The Postal Service states that the proposed prices comply with 39 U.S.C. 3633. Notice at 4. To support its proposed Inbound Letter Post Small Packets and Bulky Letters prices, the Postal Service filed the proposed prices; a copy of the certification required under 39 CFR 3015.5(c)(2); and a redacted copy of Governors' Decision No. 19-1. Id. at 5; see id. Attachments 2-4. The Postal Service also filed redacted financial workpapers. Notice at 5.

² Id.; Universal Postal Convention (UPU Convention) Article 29.1. The UPU Convention is available at, https://www.upu.int/UPU/media/upu/files/aboutUpu/acts/actsOfCurrentCycle/actsLastCongressActsEn.pdf.

In addition, the Postal Service filed an unredacted copy of Governors' Decision No. 19-1, the unredacted new prices, and related financial information under seal. Id. at 4-5. The Postal Service also provided an application for non-public treatment of materials filed under seal filed pursuant to 39 CFR part 3011. Id. at 4; see id. Attachment 1.

III. Administrative Actions

The Commission establishes Docket No. CP2022-58 for consideration of matters raised by the Notice and appoints Katalin K. Clendenin to serve as Public Representative in this docket. The Commission invites comments on whether the Postal Service's filing is consistent with 39 U.S.C. 3632, 3633, and 39 CFR 3035.105 and .107. Comments are due no later than May 13, 2022. The public portions of the filing can be accessed via the Commission's website (http://www.prc.gov).

IV. Ordering Paragraphs

It is ordered:

1. The Commission establishes Docket No. CP2022-58 for consideration of the matters raised by the Postal Service's Notice.

2. Comments are due no later than May 13, 2022.

3. Pursuant to 39 U.S.C. 505, Katalin K. Clendenin will serve as an officer of the Commission (Public Representative) to represent the interests of the general public in these dockets.

4. The Secretary shall arrange for publication of this order in the Federal Register.

By the Commission.
Erica A. Barker,
Secretary.

[FR Doc. 2022-09851 Filed 5-6-22; 8:45 am]

BILLING CODE 7710-FW-P